CENSUS MONITORING BOARD

Notice of Public Meeting

SUMMARY: This notice, in compliance with Pub. L. 105-119, sets forth the meeting date, time, and place for two public meetings of the U.S. Census Monitoring Board in Southern California. The agenda is to hear from community based groups regarding the operations of the census within the area. Additionally, the Board will have a general business meeting.

Date: Monday June 26, 2000.

Time: 10 a.m. to 12:30 p.m.

Location: Town & Gown Center, Main Campus, University of Southern California, Los Angeles, CA

Date: Tuesday, June 27, 2000.

Time: 9 a.m. to 11 a.m.

Location: San Diego Association of Governments, 7th Floor, Board Room, 401 B Street, San Diego, CA.

FOR FURTHER INFORMATION CONTACT: Contact Clark Reid, 301-457-5080 Deputy Executive Director (Congressional Members) or Robert Cunningham (Presidential Members) 301-457-9900.

Dated: June 13, 2000.
Fred T. Asbell,
Executive Director, Congressional Members.
Mark Johnson,
Executive Director, Presidential Members.

[FR Doc. 00-15358 Filed 6-16-00; 8:45 am]

BILLING CODE 3510-07-M